OFFICE OF SCIENCE AND TECHNOLOGY POLICY

National Nanotechnology Initiative Workshops

ACTION: Notice of public meetings.

SUMMARY: The National Nanotechnology Coordination Office (NNCO), on behalf of the Nanoscale Science, Engineering, and Technology (NSET) Subcommittee of the Committee on Technology, National Science and Technology Council (NSTC), will hold one or more workshops to engage stakeholders and facilitate discussion on key nanotechnology matters. Topics covered may include nanosensor manufacturing; environmental, health, and safety issues; converging technologies; or other areas of potential interest to the nanotechnology community.

DATES: The NNCO will hold one or more workshops between the publication of this Notice and December 31, 2017.

ADDRESSES: For information about upcoming workshops, please visit http://www.nano.gov/events/meetings-workshops.

FOR FURTHER INFORMATION CONTACT: For information regarding this Notice, please contact Jewel Beamon at National Nanotechnology Coordination Office, by telephone (703-292-8626) or email (jbeamon@nnco.nano.gov). Additional information about each workshop will be posted on www.nano.gov.

SUPPLEMENTARY INFORMATION:

Registration: Due to space limitations, pre-registration for workshops is required. Registration is on a first-come, first-served basis, and will be available on www.nano.gov. Registration for the workshops will be capped as space limitations dictate. Individuals planning to attend a workshop can find registration information at http://www.nano.gov/meetings-workshops. Written notices of participation by email should be sent to info@nnco.nano.gov or mailed to Jewel Beamon, 4201 Wilson Blvd., Stafford II, Suite 405, Arlington, VA 22230.

Meeting Accomodations: Individuals requiring special accommodation to access any of these public events should contact Jewel Beamon (telephone 703-292-8626) at least ten business days prior to the meeting so that appropriate arrangements can be made.

Ted Wackler,
Deputy Chief of Staff and Assistant Director.

[FR Doc. 2017-05913 Filed 3-24-17; 8:45 am]

BILLING CODE 3270-F7-P